DEPARTMENT OF COMMERCE

Bureau of the Census

[Docket Number 180926887-8887-01]

Census County Divisions (CCDs) and Equivalent Entities for the 2020 Census—Final Criteria

AGENCY: Bureau of the Census, Commerce.

ACTION: Notice of final criteria and program implementation.

SUMMARY: Census county divisions (CCDs) and equivalent entities are statistical geographic entities established cooperatively by the Census Bureau and officials of state and local governments in 21 states where minor civil divisions (MCDs) either do not exist or have been unsatisfactory for reporting statistical data. The primary goal of the CCD program has been to establish and maintain a set of subcounty units that have stable boundaries and recognizable names. The Census Bureau is publishing this notice in the Federal Register to announce final criteria and program implementation for defining CCDs for the 2020 Census. In addition to CCDs, the program also encompasses the review and update of census tracts, block groups, and census designated places (CDPs).

DATES: This notice's final criteria will be effective on December 13, 2018.

FOR FURTHER INFORMATION CONTACT: Requests for additional information on this program should be directed to the Geographic Standards, Criteria, and Quality Branch, Geography Division, U.S. Census Bureau, via email at geo.psap.list@census.gov or telephone at 301-763-3056.

SUPPLEMENTARY INFORMATION:

Background

Census county divisions (CCDs) and equivalent entities are statistical geographic entities established cooperatively by the Census Bureau and officials of state and local governments in 21 states ¹ where minor civil divisions (MCDs) either do not exist or have been unsatisfactory for reporting statistical data. The primary goal of the CCD program has been to establish and maintain a set of subcounty ² units that have stable boundaries and recognizable names.

¹ In Alaska, census subareas are county subdivisions equivalent to CCDs. For purposes of this notice, the term CCD also refers to census subareas in Alaska.

² For the Census Bureau's purposes, the term “county” includes parishes in Louisiana; boroughs, city and boroughs, municipalities, and census areas in Alaska; independent cities in Maryland, Missouri, Nevada, and Virginia; districts and islands in American Samoa; districts in the U.S. Virgin Islands; municipalities in the Commonwealth of the Northern Mariana Islands; municipios in Puerto Rico; and the areas constituting the District of Columbia and Guam. This notice will refer to all these entities collectively as “counties”.

The Census Bureau is publishing this notice in the Federal Register to announce final criteria for defining CCDs for the 2020 Census. The Census Bureau did not receive any comments in response to proposed criteria published in the Federal Register on February 15, 2018 (83 FR 6932). After publication of final criteria in the Federal Register, the Census Bureau will offer designated governments or organizations an opportunity to review and, if necessary, suggest updates to the boundaries and attributes of CCDs in their geographic area under the Participant Statistical Areas Program (PSAP). In addition to CCDs, the program also encompasses the review and update of census tracts, block groups, and census designated places (CDPs).

I. History

When CCDs were introduced prior to the 1950 Census, few alternatives were available for the provision of statistical data related to relatively stable, subcounty geographic units. Census tracts were defined in only a subset of metropolitan area counties. MCDs existed in all counties, but in some states MCD boundaries changed frequently enough that they were not useful for comparing statistical data from one decade to another.

For much of the period from the 1950 Census through the 1980 Census, county subdivisions (MCDs and CCDs) provided the only subcounty unit of geography at which data users could obtain statistical data for complete coverage of counties nationwide. The introduction of block numbering areas (BNAs) in counties without census tracts for the 1990 Census offered an alternate subcounty entity for which data could be tabulated. For Census 2000, the Census Bureau introduced census tracts nationwide (in many counties, BNAs were simply relabeled as “census tracts”), increasing the dissemination of, and ability to analyze, data at the census tract level, and providing an alternative set of subcounty statistical geographic areas in each county in addition to MCDs and CCDs. Nevertheless, CCDs and MCDs remain useful for presenting subcounty statistics and, in less populous counties containing only one or two census tracts, can provide greater spatial resolution when analyzing the distribution of population and characteristics.

II. Summary of Comments Received in Response to the Proposed Criteria

The Census Bureau's proposed criteria for the 2020 Census were unchanged from the final criteria used to delineate CCDs for the 2010 Census. The Census Bureau did not receive any comments in response to the proposed criteria published in the Federal Register published on February 15, 2018 (83 FR 6932). As a result, the proposed criteria are adopted as final criteria with only minor clarifying changes and an update for a population figure used as an example.

III. General Principles and Criteria for CCDs for the 2020 Census

The criteria outlined herein apply to the United States,³ Puerto Rico, and the Island Areas.⁴

³ For Census Bureau purposes, the United States typically refers to only the fifty states and the District of Columbia, and does not include the U.S. territories (Puerto Rico, the Island Areas, and the U.S. Minor Outlying Islands.

⁴ The Island Areas include the U.S. territories American Samoa, the Commonwealth of the Northern Mariana Islands, Guam, and the U.S. Virgin Islands.

A. General Principles

1. The primary goal of the CCD program is to establish and maintain a set of subcounty units that have stable boundaries and recognizable names. The boundaries of CCDs usually coincide with visible features or stable, significant legal boundaries, such as the boundary of an American Indian reservation (AIR), federally managed land, or conjoint incorporated places. CCDs have no legal status as statistical geographic entities and are defined only for the tabulation and presentation of statistical data.

2. A CCD usually represents a single contiguous area consisting of one or more communities, economic centers, or, in some instances, major land uses that are relatively compact in shape.

3. A CCD should have a relationship to existing census tracts, either encompassing one or more census tracts or having two or more CCDs nest within a single census tract. The boundaries of a CCD, or combination of nested CCDs, align with census tract boundaries. Note that a county with a population less than the optimum population for a census tract (less than 4,000 people) may contain more CCDs than census tracts. For example, McCone County, Montana, which has a 2017 estimated population of 1,718, contains only one census tract, but is divided into two CCDs.

4. Since the 1950s, the Census Bureau has worked with state and local officials to replace MCDs with CCDs for the collection, presentation, and analysis of Census Bureau data, particularly in states in which MCDs do not provide governmental services and functions, and in which MCD boundaries tend to change between decennial censuses. For the 2020 Census, CCDs are defined in 21 states: Alabama, Alaska, Arizona, California, Colorado, Delaware, Florida, Georgia, Hawaii, Idaho, Kentucky, Montana, Nevada, New Mexico, Oklahoma, Oregon, South Carolina, Texas, Utah, Washington, and Wyoming. North Dakota adopted CCDs for use in tabulating and presenting data from the 1970 Census. Following the 1970 Census, North Dakota requested that the Census Bureau again use MCDs to tabulate and present statistical data. For the 2010 Census, Tennessee requested that the Census Bureau replace its CCDs with county commissioner districts, a type of legal, administrative MCD.

B. Criteria

CCDs should (1) have community orientation, (2) have visible and/or stable boundaries, (3) maintain relationships with census tract boundaries, and (4) have recognizable names.

1. Community Orientation

Each CCD should center on one or more places and encompass additional surrounding territory that together form a cohesive community area. The definition of community should take into account factors, such as production, marketing, consumption, and the integrating factor of local institutions.

The locality on which a CCD is centered usually is an incorporated place or an unincorporated community, which might be identified as a CDP. In some cases, the CCD may center on a major area of significantly different topography, land use, or ownership, such as a large military installation or AIR. A CCD should always comprise a reasonably compact, continuous land area, generally with road access to all areas within the CCD.

2. Visible and/or Stable Boundaries

To make the location of CCD boundaries less ambiguous, the boundaries should follow, wherever possible, visible and identifiable features. The use of visible features makes it easier to locate and identify CCD boundaries over time, as the locations of most visible features in the landscape change infrequently, making data collection easier and more reliable, while reducing the possibility for data allocation errors. The Census Bureau requires that CCDs follow state and county boundaries, conform to census tract boundaries, and allows CCDs to follow the boundaries of federally recognized AIRs, and federal, state, or locally managed land.

The following features are acceptable:

a. County boundaries (always a CCD boundary);

b. Census tract boundaries, which usually follow visible, perennial, natural, and cultural features, such as roads, rivers, canals, railroads, or above-ground, high-tension power lines;

c. Legally defined, federally recognized AIR boundaries;

d. The boundaries of federal, state, or locally managed land, such as national parks, national monuments, national forests, other types of large parks or forests, airports, marine ports, prisons, military installations, or other large facilities;

e. Conjoint city limits (in certain situations, such as city limits that change infrequently); and,

f. When the above types of features are not available for use as CCD boundaries, the Census Bureau may, at its discretion, approve other nonstandard, visible features, such as ridge lines, above-ground pipelines, streams, or fence lines. The Census Bureau may also accept, on a case-by-case basis, the boundaries of selected nonstandard and potentially nonvisible features, such as the boundaries of cemeteries, golf courses, glaciers, or the straight-line extensions of visible features and other lines-of-sight.

3. Census Tract Boundaries and Population Size

Whenever possible, a CCD should encompass one or more contiguous census tracts, or multiple CCDs should constitute a single census tract. Therefore, CCD boundaries should be consistent with census tract boundaries. Population size is not as important a consideration with CCDs as it is with census tracts. For CCDs that do not meet the thresholds for a census tract, the Census Bureau encourages creating one or more block groups within a census tract that encompass a CCD. Historically, CCDs have ranged from a few hundred people (in selected situations) to more than one million. However, data quality and availability may be factors that local governments and planners should consider in defining statistical geographic areas. As a general rule, period estimates of demographic characteristics of small population areas from the American Community Survey will be subject to higher variances than comparable period estimates for areas with larger populations. In addition, the Census Bureau's disclosure rules may have the effect of restricting the availability and amount of data for areas with small populations.

4. Name Identification

a. The names of existing CCDs shall not be changed unless a compelling reason is provided, such as when the name from which the CCD was derived has changed, as in the case of Bainbridge Island, Washington, when the name of the city (Winslow) changed;

b. A new CCD usually is named after the largest population center or historically central place within it (e.g., Taos, Hobbs, or Zuni Pueblo, New Mexico);

c. Where a CCD contains multiple centers with relatively equal importance, a CCD name may represent the two or three centers (e.g., Mount Pleasant-Moroni, Utah);

d. A CCD may be named after the AIR (e.g., Hualapai, Arizona or Nez Perce, Idaho) or a prominent land use area (e.g., Federal Reservation, Washington or Yellowstone National Park, Wyoming) in which it is significantly or wholly located;

e. A CCD may be named after a prominent physical feature (e.g., Mount Rainier, Washington) or a distinctive region within the county (e.g., Death Valley, California; Everglades or Lower Keys, Florida); and,

f. If there is no clear cultural focus or topographic name that can be applied, a CCD name shall consist of the county name and a compass direction to indicate the portion of the county in the CCD or a place name and a compass direction to give the CCD location relative to the place. The directional indicator precedes a county name (e.g., Northeast Cobb, Georgia). If a place name is used, the directional indicator follows it (e.g., Del Rio Northwest, Texas).

In all cases, the objective is to clearly identify the extent of the CCD by means of an area name since CCD names always should be meaningful to data users. Any name used as a CCD name must also be recognized by the Board on Geographic Names for federal use and appear in the Geographic Names Information System maintained by the U.S. Geological Survey. This includes any individual names combined to make a hyphenated CCD name.

III. Definitions of Key Terms

American Indian reservation (AIR)— An area of land with boundaries established by final treaty, statute, executive order, and/or court order and over which a federally recognized American Indian tribal government has governmental authority. Along with “reservation,” designations such as colonies, communities, pueblos, rancherias, and reserves apply to AIRs.

Block group—A statistical subdivision of a census tract consisting of all census blocks whose numbers begin with the same digit in a census tract. A block group is the smallest geographic entity for which the Census Bureau normally tabulates sample data.

Census block—A geographic area bounded by visible and/or invisible features shown on a map prepared by the Census Bureau. A block is the smallest geographic entity for which the Census Bureau tabulates and publishes decennial census data.

Census county division (CCD)—Areas delineated by the Census Bureau in cooperation with state, tribal, and local officials for statistical purposes. CCDs have no legal function and are not governmental units. CCD boundaries usually follow visible features and usually coincide with census tract boundaries. The name of each CCD is based on a place, country, or well-known local name that identify its location.

Census designated place (CDP)—A statistical geographic entity equivalent to an incorporated place with a concentration of population, housing, and commercial and nonresidential structures that is identifiable by name, but is not within an incorporated place.

Census tract—A small, relatively permanent statistical geographic division of a county defined for the tabulation and publication of Census Bureau data. The primary goal of census tracts is to provide a set of nationally consistent, relatively small, statistical geographic units, with stable boundaries that facilitate analysis of data across time and between decennial censuses.

Conjoint—A description of a boundary line shared by two adjacent geographic entities.

Contiguous—A description of areas sharing common boundary lines, more than a single point, such that the areas, when combined, form a single piece of territory. Noncontiguous areas form disjoint pieces.

Federally managed land—Territory that is federally owned and/or administered by an agency of the U.S. federal government, such as the National Park Service, Bureau of Land Management, or Department of Defense.

Incorporated place—A type of governmental unit, incorporated under state law as a city, town (except in New England, New York, and Wisconsin), borough (except in Alaska and New York), or village, generally to provide governmental services for a concentration of people within legally prescribed boundaries.

Minor civil division (MCD)—The primary governmental or administrative division of a county in 28 states and the Island Areas having legal boundaries, names, and descriptions. The MCDs represent many different types of legal entities with a wide variety of characteristics, powers, and functions depending on the state and type of MCD. In some states, some or all of the incorporated places also constitute MCDs.

Nonvisible feature—A map feature that is not visible on the ground and in imagery such as a city or county boundary through space, a property line, or line-of-sight extension of a road.

Visible feature—A map feature that can be seen on the ground and in imagery, such as a road, railroad track, major above-ground transmission line or pipeline, river, stream, shoreline, fence, sharply defined mountain ridge, or cliff. A nonstandard visible feature is a feature that may not be clearly defined on the ground (such as a ridge), may be seasonal (such as an intermittent stream), or may be relatively impermanent (such as a fence). The Census Bureau generally requests verification that nonstandard features used as boundaries for the PSAP geographic areas pose no problem in their location during field work.

Dated: October 30, 2018.
Ron S. Jarmin,
Deputy Director, Performing the Non-Exclusive Functions and Duties of the Director, Bureau of the Census.

[FR Doc. 2018-24566 Filed 11-9-18; 8:45 am]

BILLING CODE 3510-07-P